DEPARTMENT OF HEALTH AND HUMAN SERVICES

Office of the Secretary

[Document Identifier: 0937-0198-30D]

Agency Information Collection Activities; Submission to OMB for Review and Approval; Public Comment Request

AGENCY: Office of the Secretary, HHS.

ACTION: Notice.

SUMMARY: In compliance with the Paperwork Reduction Act of 1995, the Office of the Secretary (OS), Department of Health and Human Services, has submitted an Information Collection Request (ICR), described below, to the Office of Management and Budget (OMB) for review and approval. The ICR is for renewal of the approved information collection assigned OMB control number <OCN>, scheduled to expire on <expiration date>. Comments submitted during the first public review of this ICR will be provided to OMB. OMB will accept further comments from the public on this ICR during the review and approval period.

DATES: Comments on the ICR must be received on or before May 18, 2017.

ADDRESSES: Submit your comments to OIRA_submission@omb.eop.gov or via facsimile to (202) 395-5806.

FOR FURTHER INFORMATION CONTACT: Information Collection Clearance staff, Information.CollectionClearance@hhs.gov or (202) 795-7714.

SUPPLEMENTARY INFORMATION: When submitting comments or requesting information, please include the OMB control number 0937-0198 and document identifier 0937-0198-30D for reference.

Information Collection Request Title: Public Health Service Polices on Research Misconduct (42 CFR part 93)—OMB No. 0937-0198—Extension—Office of Resource Integrity.

OMB No.: 0937-0198.

Abstract: This is a request to extend the currently approved collection, OMB No. 0937-0198, which involves two forms: PHS-6349 and PHS-6315. The purpose of the Institutional Assurance and Annual Report on Possible Research Misconduct form (PHS-6349) is to provide data on the amount of research misconduct activity occurring in institutions conducting PHS-supported research, as well as providing an annual assurance that those institutions have established and will follow administrative policies and procedures for responding to allegations of research misconduct that comply with the Public Health Service (PHS) Regulations on Research Misconduct (42 CFR part 93). The purpose of the Assurance of Compliance by Sub-Award Recipients form (PHS-6315) is to establish a similar assurance of compliance with 42 CFR part 93 for sub-awardee institutions, as well as provide data on the amount of research misconduct activity occurring in those sub-awardee institutions. Research misconduct is defined as receipt of an allegation of research misconduct and/or the conduct of an inquiry and/or investigation into such allegations. These data enable the ORI to monitor institutional compliance with the PHS regulation. Lastly, the forms will be used to respond to congressional requests for information to prevent misuse of Federal funds and to protect the public interest.

Need and Proposed Use of the Information: Public Health Service Polices on Research Misconduct (42 CFR part 93)—OMB No. 0937-0198—Extension—Office of Research Integrity.

Likely Respondents: PHS awardee and sub-awardee institutions.

The total annual burden hours estimated for this ICR are summarized in the table below.

Total Estimated Annualized Burden—Hours
Form name | Number of respondents | Number of responses per respondent | Average burden per response (in hours) | Total burden hours
PHS-6349 | 5,435 | 1 | 10/60 | 906
PHS-6315 | 200 | 1 | 5/60 | 17
Total |  |  |  | 923

Terry S. Clark,
Asst Information Collection Clearance Officer.

[FR Doc. 2017-07787 Filed 4-17-17; 8:45 am]

BILLING CODE 4150-31-P